DEPARTMENT OF THE INTERIOR

Bureau of Land Management

[ES-960-1430-ET; MNES 17056]

Public Land Order No. 7672; Extension of Public Land Order No. 6630; Minnesota

AGENCY: Bureau of Land Management, Interior.

ACTION: Public Land Order.

SUMMARY: This order extends Public Land Order No. 6630 for an additional 20-year period. This extension is necessary to allow the National Park Service to continue to manage the land as part of the Voyageurs National Park.

DATES: Effective Date: November 18, 2006.

FOR FURTHER INFORMATION CONTACT: Ida Doup, BLM Eastern States Office, 7450 Boston Boulevard, Springfield, Virginia 22153, 703-440-1541.

SUPPLEMENTARY INFORMATION: Notice of Proposed Withdrawal Extension and Opportunity for Public Meeting; Minnesota was published in the Federal Register on September 1, 2006 (71 FR 52143).

Order

By virtue of the authority vested in the Secretary of the Interior by Section 204 of the Federal Land Policy and Management Act of 1976, 43 U.S.C. 1714 (2000), it is ordered as follows:

1. Public Land Order No. 6630 (51 FR 41627, November 18, 1986), which withdrew 49.26 acres of public land comprised of 61 islands and one waterfront lot in St. Louis County, Minnesota from surface entry and transferred jurisdiction from the Bureau of Land Management to the National Park Service, is hereby extended for an additional 20-year period.

2. This Public Land Order will expire on November 17, 2026, unless, as a result of a review conducted prior to the expiration date pursuant to Section 204(f) of the Federal Land Policy and Management Act of 1976, 43 U.S.C. 1714(f) (2000), the Secretary determines that the withdrawal shall be extended.

(Authority: 43 CFR 2310.4)

Dated: November 15, 2006.
C. Stephen Allred,
Assistant Secretary, Land and Minerals Management.

[FR Doc. E6-20455 Filed 12-1-06; 8:45 am]

BILLING CODE 4310-55-P